ENVIRONMENTAL PROTECTION AGENCY

[FRL-6724-2A]

Developing Assessment Factors for Evaluating the Quality of Information From External Sources; Notice of Public Meeting

AGENCY: Environmental Protection Agency (EPA).

ACTION: Notice of comment period extension

SUMMARY: This document is being issued to extend the comment period date regarding the EPA draft document, “Assessment Factors for Evaluating the Quality of Information from External Sources,” from the original end date of September 20, 2002 to September 30, 2002. The comment period will now be September 6, 2002 to September 30, 2002.

DATES: The public meeting will be held on September 20, 2002, from 9 a.m. to 1 p.m. (Eastern Standard Time, EST). Written comments must be received on or before September 30, 2002, 11:59 p.m. EST. For information on dates for submission of written comments, requests to present oral comments, or requests for special seating arrangements, see Unit I.C. of the SUPPLEMENTARY INFORMATION.

ADDRESSES: This meeting will be held at the U.S. Environmental Protection Agency East Building, Public Hearing Room 1153, 1201 Constitution Avenue, NW., Washington, DC. Comments may be submitted by e-mail, mail, courier or in person. See SUPPLEMENTARY INFORMATION for instructions on submitting comments and public meeting information.

FOR FURTHER INFORMATION CONTACT: Greg Schweer, Office of Science Coordination and Policy (7203M), Environmental Protection Agency, 1200 Pennsylvania Ave., NW., Washington, DC 20460; telephone number: (202) 564-8469; fax number: (202) 564-8482; e-mail address: assessment.factors@epa.gov.

SUPPLEMENTARY INFORMATION:

I. General Information

A. Does This Action Apply to Me?

This action is directed to the public in general. This action may, however, be of interest to persons or entities who develop or collect information which is voluntarily submitted to EPA or obtained by EPA for its use. Since other entities may also be interested, the Agency has not attempted to describe all the specific entities that may be affected by this action. If you have any questions regarding the applicability of this action to a particular entity, consult the person listed under FOR FURTHER INFORMATION CONTACT.

B. How Can I Get Additional Information, Including Copies of This Document and Other Related Documents?

1. Electronically. You may obtain electronic copies of this document, and certain other related documents that might be available electronically, from the EPA Internet Home Page at http://www.epa.gov. To access this document, on the Home Page select “Laws and Regulations,” “Regulations and Proposed Rules,” and then look up the entry for this document under the “Federal Register-Environmental Documents.” You can also go directly to the Federal Register listings at: http://www.epa.gov/fedrgstr. You may obtain electronic copies of the draft “Assessment Factors for Evaluating the Quality of Information from External Sources” from the Information Quality Guidelines Home Page at: http://www.epa.gov/oei/qualityguidelines/.

2. In person. The Agency has established a docket for this meeting under docket ID number OEI-10014. The docket consists of the documents specifically referenced in this notice, any public comments received during an applicable comment period, and other material information, including any information claimed as Confidential Business Information (CBI). The public version of the docket, which includes printed, paper versions of any electronic comments that may be submitted during the applicable comment period, is available for inspection at: EPA Docket Center, EPA West Building, Room B102, 1301 Constitution Avenue, NW., Washington, DC, 20460. The docket is open from 8:30 pm to 4:30 pm EDT, Monday through Friday, excluding legal holidays. The telephone number is (202) 566-1752.

C. How Can I Request To Participate in the Public Meeting?

You may submit a request to present oral or written comments at the meeting and you may provide written comments prior to the meeting via electronic mail (e-mail), mail, by courier, or in person. To ensure proper receipt of your request and/or comments, it is imperative that you identify docket ID No. OEI-10014 in the subject line of the first page of your request/comments. The request to present brief oral comments (i.e., limited to approximately 5 minutes) should identify the name of the individual making the presentation, the organization (if any) the individual will represent, and any requirements for audiovisual equipment. Although requests to present oral comments are accepted until the date of the meeting, to the extent that time permits, interested persons who have not submitted a request may be permitted to present oral comments. EPA will not be recording or transcribing the public meeting. To facilitate EPA's consideration of your planned comments, EPA recommends that you provide EPA with a written record of those comments you want EPA to consider, either prior to or at the public meeting. Comments must be received on or before September 20, 2002, 11:59 pm EDT.

To ensure timely receipt, e-mail (assessment.factors@epa.gov) is the Agency's preferred method for submitting requests to participate in the meeting and for submitting comments. Do not submit any information electronically that you consider to be CBI. If you submit your request and/or written comments by U.S. mail, send them to: U.S. EPA, EPA Docket Center (7407), Ariel Rios Building, 1200 Pennsylvania Ave., NW., Washington, DC 20460. If you submit requests and/or comments in person, by courier, or other shipping method, deliver them to: EPA Docket Center, EPA West Building, Room B102, 1301 Constitution Avenue, NW., Washington, DC 20460. The docket is open from 8:30 pm to 4:30 pm EDT, Monday through Friday, excluding legal holidays. The telephone number is (202) 566-1752.

Individuals requiring special accommodations at this meeting, including wheelchair access, should contact the person listed under FOR FURTHER INFORMATION CONTACT.

II. Background

In response to OMB's guidelines (67 FR 8452, February 22, 2002), EPA has developed Draft Guidelines for Ensuring and Maximizing the Quality, Objectivity, Utility, and Integrity of Information Disseminated by the Environmental Protection Agency (Draft EPA Information Quality Guidelines; 67 FR 21234, April 30, 2002). The Draft EPA Information Quality Guidelines are available at EPA's site, http://www.epa.gov/oei/qualityguidelines. The Draft EPA Information Quality Guidelines address the various sources of information submitted to or obtained by the Agency for use in making decisions, and, in particular, discuss one category of information that includes information voluntarily submitted to the Agency or information that the Agency obtains from external third party sources. During development of these guidelines, EPA requested comments and held a public meeting. Subsequently, EPA developed a document, “Assessment Factors for Evaluating the Quality of Information from External Sources,” that specifically addresses assessment factors and considerations relevant to evaluating and using external sources of data and information. EPA is holding a public meeting on September 20, 2002 to obtain public input on factors and considerations they feel are useful to assess the quality of information voluntarily provided by external sources to the Agency or obtained by EPA for specific purposes. In addition, EPA is seeking comments from the public on the document, “Assessment Factors for Evaluating the Quality of Information from External Sources.”

List of Subjects

Environmental protection, data quality, information quality.

Dated: September 5, 2002.
Elaine Stanley,
Director, Office of Information Analysis and Access, Office of Environmental Information.

[FR Doc. 02-23990 Filed 9-19-02; 8:45 am]

BILLING CODE 6560-50-P